DEPARTMENT OF TRANSPORTATION

Federal Aviation Administration

14 CFR Part 39

[Docket No. 98-ANE-43-AD; Amendment 39-12797; AD 2002-13-09]

RIN 2120-AA64

Airworthiness Directives; Pratt & Whitney JT8D-200 Series Turbofan Engines; Correction

AGENCY: Federal Aviation Administration, DOT.

ACTION: Final rule; correction.

SUMMARY: This document makes corrections to Airworthiness Directive (AD) 2002-13-09 applicable to Pratt & Whitney JT8D-200 engines that was published in the Federal Register on July 3, 2002 (67 FR 44527). In the regulatory information, Table part B., Parts Requiring Inspection, one item under Description and one item under Engine Manual are incorrect. This document corrects these items. In all other respects, the original document remains the same.

EFFECTIVE DATE: July 3, 2002.

FOR FURTHER INFORMATION CONTACT: Christopher Spinney, Aerospace Engineer, Engine Certification Office, FAA, Engine and Propeller Directorate, 12 New England Executive Park, Burlington, MA; telephone (781) 238-7175; fax (781) 238-7199.

SUPPLEMENTARY INFORMATION: A final rule airworthiness directive FR Doc, 02-16535 applicable to Pratt & Whitney JT8D-200 series turbofan engines, was published in the Federal Register on July 3, 2002 (67 FR 44527). The following correction is needed:

§ 39.13 [Corrected]

On page 44528, in the third column, in the regulatory information, Table part B., Parts Requiring Inspection, first column, the last Description “Disk, 4th Stage Turbine—” is corrected to read “Disk, 4th Stage Turbine—All P/N's'.

On page 44528, in the third column, in the regulatory information, Table part B., Parts Requiring Inspection, second column, the sixth Engine Manual Section “2-53-16” is corrected to read “72-53-16'.

Issued in Burlington, MA, on July 22, 2002.
Peter A. White,
Acting Manager, Engine and Propeller Directorate, Aircraft Certification Service.

[FR Doc. 02-19034 Filed 7-25-02; 8:45 am]

BILLING CODE 4910-13-U